FEDERAL COMMUNICATIONS COMMISSION

47 CFR Part 69

[WC Docket No. 05-25, RM-10593; DA 15-737]

Wireline Competition Bureau Further Extends Comment Deadlines in Special Access Proceeding

AGENCY: Federal Communications Commission.

ACTION: Proposed rule; extension of comment and reply deadlines.

SUMMARY: In this document, the Federal Communications Commission's (Commission's) Wireline Competition Bureau (Bureau) further extends deadlines for interested parties to submit comments and reply comments in response to Section IV.B of the Further Notice of Proposed Rulemaking (Special Access FNPRM), 78 FR 2600, January 11, 2013, in the special access proceeding.

DATES: The comment period for the proposed rule published January 11, 2013 (78 FR 2600), has been further extended. Comments are due on or before September 25, 2015; reply comments are due on or before October 16, 2015.

ADDRESSES: You may submit comments on the Special Access FNPRM, 78 FR 2600, January 11, 2013, identified by WC Docket No. 05-25, RM-10593, by any of the following methods:

• Electronic Filers: Federal Communication Commission's Electronic Comments Filing System (ECFS): http://apps.fcc.gov/ecfs/. Follow the instructions for submitting comments.

• Paper Filers: All hand-delivered or messenger-delivered paper filings for the Commission's Secretary must be delivered to FCC Headquarters at 445 12th Street SW., Room TW-A325, Washington, DC 20554. The filing hours are 8:00 a.m. to 7:00 p.m. Eastern Time (ET). All hand deliveries must be held together with rubber bands or fasteners. Any envelopes and boxes must be disposed of before entering the building. Commercial overnight mail (other than U.S. Postal Service Express Mail and Priority Mail) must be sent to 9300 East Hampton Drive, Capitol Heights, MD 20743. U.S. Postal Service first-class, Express, and Priority mail must be addressed to 445 12th Street SW., Washington, DC 20554.

• People with Disabilities: To request materials in accessible formats for people with disabilities (Braille, large print, electronic files, or audio format), send an email to fcc504@fcc.gov or call the Consumer & Governmental Affairs Bureau at 202-418-0530 (voice), 202-418-0432 (TTY).

FOR FURTHER INFORMATION CONTACT: Christopher Koves, Pricing Policy Division, Wireline Competition Bureau, (202) 418-8209 or Christopher.Koves@fcc.gov.

SUPPLEMENTARY INFORMATION: This is a summary of the Commission's document, WC Docket No. 05-25, RM-10593; DA 15-737, released June 24, 2015. This document does not contain information collection(s) subject to the Paperwork Reduction Act of 1995 (PRA), Public Law 104-13. In addition, therefore, it does not contain any new or modified “information collection burden[s] for small business concerns with fewer than 25 employees,” pursuant to the Small Business Paperwork Relief Act of 2002. The complete text of this document is available for public inspection and copying from 8:00 a.m. to 4:30 p.m. ET Monday through Thursday or from 8:00 a.m. to 11:30 a.m. ET on Fridays in the FCC Reference Information Center, 445 12th Street SW., Room CY-A257, Washington, DC 20554. The complete text is also available on the Commission's Web site at http://wireless.fcc.gov, or by using the search function on the ECFS Web page at http://www.fcc.gov/cgb/ecfs/.

Background

On June 24, 2015, the Commission released a public notice extending the deadlines for filing comments and reply comments in response to Section IV.B of the Special Access FNPRM (78 FR 2600, January 11, 2013) in the Commission's special access rulemaking proceeding until September 25, 2015 and October 16, 2015, respectively. Previous comment period extensions have been published in the Federal Register. The latest comment period extension was published in the Federal Register on April 27, 2015 (80 FR 23248), to extend the comment and reply comment deadlines to July 1 and July 22, 2015, respectively. On December 11, 2012, the Commission adopted an order requiring providers and purchasers of special access service and certain entities providing “best efforts” service to submit data and information for a comprehensive evaluation of the special access market. In Section IV.B of the Special Access FNPRM accompanying that order, the Commission sought comment on potential changes to its rules governing the special access services provided by incumbent local exchange carriers in price cap areas. The Bureau is in the process of allowing access to the data collected for interested parties to review pursuant to restrictions found in the previously issued protective order, but has yet to make the data available. As a result, interested parties will not have adequate time to access and review the information collected prior to the current July 1 and July 22, 2015 comment and reply comment deadlines.

Accordingly, the Bureau hereby further extends the deadline for filing comments to September 25, 2015, and for filing reply comments to October 16, 2015.

Federal Communications Commission.
Pamela Arluk,
Chief, Pricing Policy Division, Wireline Competition Bureau.

[FR Doc. 2015-16821 Filed 7-13-15; 8:45 am]

BILLING CODE 6712-01-P